Proclamation 7667 of April 25, 2003

National Volunteer Week, 2003

By the President of the United States of America

A Proclamation

Volunteering is central to the American character and is a fundamental expression of responsible citizenship. From our Nation's earliest days, people came together to do whatever was needed for the public good—from raising barns and providing mutual security to organizing educational activities and caring for their neighbors. Though our country has changed dramatically since its founding, the need for service has not. During National Volunteer Week, we recognize our proud legacy of volunteer service and resolve to encourage more Americans to continue strengthening our country by helping others.

This is a time for all Americans to be active citizens, not spectators. For that reason, I have created the USA Freedom Corps to mobilize our citizens and provide opportunities for individuals and organizations to contribute to important causes. As part of this initiative, I have asked all Americans to dedicate at least 4,000 hours over the rest of their lives to serving their neighbors and their Nation. Since that call to service, our citizens have responded with an outpouring of kindness that is transforming our country, one heart and one soul at a time. According to the Bureau of Labor Statistics, more than 59 million Americans volunteered last year through charitable organizations.

These individuals served in a variety of ways—mentoring and tutoring children, providing companionship to the elderly, running community theaters and arts programs, cleaning highways and parks, staffing essential community organizations, and offering physical and spiritual aid to the hungry and homeless. In addition, citizen volunteers have contributed to the ongoing war on terror by helping families and communities prevent, prepare for, and respond to emergencies. Across our Nation, our citizens are recognizing that everyone can do something to help and that serving those in need benefits the volunteer also.

My Administration has taken several steps to build on this progress and continue the momentum created by these millions of acts of service. Most recently, I formed the President's Council on Service and Civic Participation, and charged them with creating a nationwide recognition program called the President's Volunteer Service Awards. These awards will be given to individuals and organizations engaged in a variety of volunteer services who have made a sustained commitment to service over the course of 1 year, and enhance our ability to pay tribute to volunteers and the impact their service has on our communities and our country.

National Volunteer Week offers each of us the opportunity to recognize one of the true strengths of our Nation—the compassionate spirit of our citizens. I urge all Americans to continue to uphold this spirit and answer the call to service to help ensure that all our citizens realize the promise of America. Together, we can achieve a hopeful future for all.

NOW, THEREFORE, I, GEORGE W. BUSH, President of the United States of America, by virtue of the authority vested in me by the Constitution and laws of the United States, do hereby proclaim April 27 through May 3, 2003, as National Volunteer Week. I call on all Americans to join together to celebrate the invaluable work that volunteers perform every day across our country, and to commit themselves to do more for their neighbors in need through the many volunteer programs available in their communities.

IN WITNESS WHEREOF, I have hereunto set my hand this twenty-fifth day of April, in the year of our Lord two thousand three, and of the Independence of the United States of America the two hundred and twenty-seventh.

B

[FR Doc. 03-10784

Filed 4-29-03; 8:45 am]

Billing code 3195-01-P